FEDERAL EMERGENCY MANAGEMENT AGENCY

[FEMA-1412-DR]

Missouri; Amendment No. 2 to Notice of a Major Disaster Declaration

AGENCY: Federal Emergency Management Agency (FEMA).

ACTION: Notice.

SUMMARY: This notice amends the notice of a major disaster for the State of Missouri (FEMA-1412-DR), dated May 6, 2002, and related determinations.

EFFECTIVE DATE: May 21, 2002.

FOR FURTHER INFORMATION CONTACT: Madge Dale, Readiness, Response and Recovery Directorate, Federal Emergency Management Agency, Washington, DC 20472, (202) 646-2705 or madge.dale@fema.gov.

SUPPLEMENTARY INFORMATION: Notice is hereby given that the incident period for this disaster is reopened and the incident type is expanded to include flooding. The incident period for this declared disaster is now April 24, 2002, and continuing, and the incident type is severe storms, tornadoes and flooding.

Bollinger, Butler, Carter, Howell and Madison Counties (already designated for Individual and Public Assistance under FEMA-1412-DR).

Cape Girardeau, Iron, Oregon, Perry, Reynolds, Ripley, Shannon, St. Francois, Stoddard and Wayne Counties (already designated for Individual Assistance under FEMA-1412-DR).

Adair, Barry, Dade, Dallas, Johnson, Knox, Lafayete, Lawrence and Taney Counties for Public Assistance.

Crawford, Dent, Jefferson, St. Geneieve for Individual Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 02-13329 Filed 5-28-02; 8:45 am]

BILLING CODE 6718-02-P